DEPARTMENT OF STATE

[Public Notice: 10119]

Cultural Property Advisory Committee; Notice of Meeting

AGENCY: Department of State.

ACTION: Notice of a meeting.

SUMMARY: The Department of State is issuing this notice to announce the location, date, time and agenda for the next meeting of the Cultural Property Advisory Committee.

DATES: October 23 through 25, 2017, 9:00 a.m. to 5:00 p.m. (EDT). The open session of the Cultural Property Advisory Committee will be held on October 23, 2017 at 10:00 a.m. (EDT). It will last approximately one hour. Participants will participate electronically. Those who wish to participate in the open session should visit http://culturalheritage.state.gov where information will be provided on how to access the meeting no later than October 16, 2017.

Written Comments: must be received no later than October 15, 2017, at 11:59 p.m. (EDT).

ADDRESSES: The meeting will be held at the U.S. Department of State, Annex 5, 2200 C St. NW. and the Harry S Truman Building, 2201 C St. NW., Washington, DC.

Comments: Methods of written comment submission are as follows:

• Electronic Comments: Use http://www.regulations.gov, enter the docket [DOS-2017-0036] and follow the prompts to submit comments.

• Paper Comments: Only send paper comments if comments contain privileged or confidential information (within the meaning of 19 U.S.C. 2605(i)(1)) to: U.S. Department of State, Bureau of Educational and Cultural Affairs—Cultural Heritage Center, SA-5 Floor 5, 2200 C St. NW., Washington, DC 20522-0505.

FOR FURTHER INFORMATION CONTACT: For general questions concerning the meeting, contact Catherine Foster, Bureau of Educational and Cultural Affairs—Cultural Heritage Center by phone, (202) 632-6301, or mail: CulProp@state.gov.

SUPPLEMENTARY INFORMATION: Pursuant to section 306(e)(2) of the Convention on Cultural Property Implementation Act (5 U.S.C. 2601 et seq.) (“the Act”), the Department is announcing a meeting of the Cultural Property Advisory Committee (“the Committee”). The Committee's responsibilities are carried out in accordance with provisions of the Act. A portion of this meeting will be closed to the public pursuant to 5 U.S.C. 552b(c)(9)(B) and 19 U.S.C. 2605.

Meeting Agenda: The Committee will review a proposal to extend the Memorandum of Understanding Between the Government of United States of America and the Government of the Kingdom of Cambodia Concerning the Imposition of Import Restrictions on Archaeological Material from Cambodia from the Bronze Age through the Khmer Era (“the Cambodia MOU”).

Open Session Participation: An open session of the meeting to receive oral public comments on the proposed extension of the Cambodia MOU will be held Monday, October 23, 2017, from 10:00 a.m. to 11:00 a.m. (EDT). The text of the Act and a copy of the Cambodia MOU may be found at http://culturalheritage.state.gov.

If you wish to make an oral presentation at the meeting, you must request to be scheduled by October 15, 2017 via email (culprop@state.gov), and you must submit a written summary of your oral presentation, ensuring that it is received no later than 11:59 p.m. (EDT) on October 15, 2017, via the Regulations.gov Web site listed in the “COMMENTS” section above. Oral comments will be limited to five (5) minutes to allow time for questions from members of the Committee. All oral comments must relate specifically to matters referred to in 19 U.S.C. 2602(a)(1), with respect to which the Committee makes its findings and recommendations. Oral presentation to the Committee may be requested but, due to time constraints, is not guaranteed.

Written Comments: If you do not wish to make oral comments but still wish to make your views known, you may submit written comments for the Committee to consider. Written comments from outside interested parties regarding the proposed extension of the Cambodia MOU must be received no later than October 15, 2017, at 11:59 p.m. (EDT). Your written comments should relate specifically to the matters referred to in 19 U.S.C. 2602(a)(1).

D. Bruce Wharton,
Acting Under Secretary for Public Diplomacy and Public Affairs, Department of State.

[FR Doc. 2017-19623 Filed 9-14-17; 8:45 am]

BILLING CODE 4710-05-P